DEPARTMENT OF DEFENSE

GENERAL SERVICES ADMINISTRATION

NATIONAL AERONAUTICS AND SPACE ADMINISTRATION

48 CFR Parts 1, 6, 9, 15, and 52

[FAC 97-16; Item III]

Federal Acquisition Regulation; Technical Amendments

AGENCIES: Department of Defense (DoD), General Services Administration (GSA), and National Aeronautics and Space Administration (NASA).

ACTION: Technical amendments.

SUMMARY: This document makes amendments to the Federal Acquisition Regulation in order to update references and make editorial changes.

EFFECTIVE DATE: March 27, 2000.

FOR FURTHER INFORMATION CONTACT: The FAR Secretariat, Room 4035, GS Building, Washington, DC 20405, (202) 501-4755.

List of Subjects in 48 CFR Parts 1, 6, 9, 15, and 52

Government procurement.

Dated: March 20, 2000.
Edward C. Loeb,
Director, Federal Acquisition Policy Division.

Therefore, DoD, GSA, and NASA amend 48 CFR Parts 1, 6, 9, 15, and 52 as set forth below:

1. The authority citation for 48 CFR Parts 1, 6, 9, 15, and 52 continues to read as follows:

Authority: 40 U.S.C. 486(c); 10 U.S.C. chapter 137; and 42 U.S.C. 2473(c).

PART 1—FEDERAL ACQUISITION REGULATIONS SYSTEM

2. Amend section 1.106 in the table following the introductory paragraph by adding entries 23.9, 52.223-13, and 52.223-14, and by revising entry 52.247-64 to read as follows:

1.106 OMB approval under the Paperwork Reduction Act.

* * * * *

FAR segment | OMB control no.
* * * * *
23.9 | 9000-0139
* * * * *
52.223-13 | 9000-0139
52.223-14 | 9000-0139
* * * * *
52.247-64 | 9000-0061
* * * * *

1.201-1 [Amended]

3. Amend section 1.201-1(a) by removing “1.102” and adding “1.103” in its place.

1.304 [Amended]

4. Amend section 1.304(a) by removing “1.301(c)” and adding “1.301(d)” in its place.

PART 6—COMPETITION REQUIREMENTS

6.305 [Amended]

5. In section 6.305 redesignate paragraphs (1) and (2) as (a) and (b), respectively; and in the newly redesignated paragraph (a) remove “41 U.S.C. 303(f)(4)” and add “41 U.S.C. 253(f)(4)” in its place.

PART 9—CONTRACTOR QUALIFICATIONS

6. Revise section 9.404 to read as follows:

9.404 List of Parties Excluded from Federal Procurement and Nonprocurement Programs.

(a) The General Services Administration (GSA)—

(1) Compiles and maintains a current list of all parties debarred, suspended, proposed for debarment, or declared ineligible by agencies or by the General Accounting Office;

(2) Periodically revises and distributes the list and issues supplements, if necessary, to all agencies and the General Accounting Office; and

(3) Includes in the list the name and telephone number of the official responsible for its maintenance and distribution.

(b) The List of Parties Excluded from Federal Procurement and Nonprocurement Programs includes the—

(1) Names and addresses of all contractors debarred, suspended, proposed for debarment, or declared ineligible, in alphabetical order, with cross-references when more than one name is involved in a single action;

(2) Name of the agency or other authority taking the action;

(3) Cause for the action (see 9.406-2 and 9.407-2 for causes authorized under this subpart) or other statutory or regulatory authority;

(4) Effect of the action;

(5) Termination date for each listing;

(6) DUNS No.; and

(7) Name and telephone number of the point of contact for the action.

(c) Each agency must—

(1) Provide GSA with the information required by paragraph (b) of this section within 5 working days after the action becomes effective;

(2) Notify GSA within 5 working days after modifying or rescinding an action;

(3) Notify GSA of the names and addresses of agency organizations that are to receive the list and the number of copies to be furnished to each;

(4) In accordance with internal retention procedures, maintain records relating to each debarment, suspension, or proposed debarment taken by the agency;

(5) Establish procedures to provide for the effective use of the List of Parties Excluded from Federal Procurement and Nonprocurement Programs, including internal distribution thereof, to ensure that the agency does not solicit offers from, award contracts to, or consent to subcontracts with contractors on the List of Parties Excluded from Federal Procurement and Nonprocurement Programs, except as otherwise provided in this subpart; and

(6) Direct inquiries concerning listed contractors to the agency or other authority that took the action.

(d) The List of Parties Excluded from Federal Procurement and Nonprocurement Programs is available as follows:

(1) The printed version is published monthly. Copies may be obtained by purchasing a yearly subscription.

(i) Federal agencies may subscribe through their organization's printing and distribution office.

(ii) The public may subscribe by writing the Superintendent of Documents, U.S. Government Printing Office, Washington, DC 20402, or by calling the Government Printing Office Inquiry and Order Desk at (202) 512-1800.

(2) The electronic version is updated daily and is available via—

(i) The internet at http://epls.arnet.gov; or

(ii) Electronic bulletin board. Dial (202) 219-0132. The settings are N-8-1-F.

(e) For general questions about entries on the List of Parties Excluded from Federal Procurement and Nonprocurement Programs or additional information on accessing the electronic bulletin board, call GSA at (202) 501-4873 or 501-4740.

9.405 [Amended]

7. Amend section 9.405 in paragraph (d)(4) by removing the word “List” and adding “List of Parties Excluded from Federal Procurement and Nonprocurement Programs” in its place.

PART 15—CONTRACTING BY NEGOTIATION

8. Amend section 15.404-1 by revising the last sentence of paragraph (a)(7) to read as follows:

15.404-1 Proposal analysis techniques.

(a) * * *

(7) * * * They are available via the internet at http://www.acq.osd.mil/dp/cpf.

* * * * *

PART 52—SOLICITATION PROVISIONS AND CONTRACT CLAUSES

52.212-1 [Amended]

9. Amend section 52.212-1 by revising the date of the clause to read “(MAR 2000)”; and in paragraph (i)(2)(ii)(B) by removing “http://www.dodssp.daps.mil” and adding “http://assist.daps.mil” in its place.

52.217-9 [Amended]

10. Amend section 52.217-9 by revising the date of the clause to read “(MAR 2000)”; and in paragraph (b) by removing “provision” and adding “clause” in its place.

52.219-23 [Amended]

11. Amend the introductory text of Alternate II in section 52.219-23 by removing “(b)(i)” both times it appears and adding “(b)(1)(i)” in their places.

[FR Doc. 00-7310 Filed 3-24-00; 8:45 am]

BILLING CODE 6820-EP-U